FEDERAL DEPOSIT INSURANCE CORPORATION

Agency Information Collection Activities: Submission for OMB Review; Comment Request; Registration of Mortgage Loan Originators (3064-0171)

AGENCY: Federal Deposit Insurance Corporation (FDIC).

ACTION: Withdrawal of notice and request for comment.

SUMMARY: The FDIC is withdrawing the Notice of Submission for OMB Review; Comment Request; Registration of Mortgage Loan Originators (3064-0171) published in the Federal Register on September 27, 2012 (77 FR 59397). The September 27, 2012 publication was an inadvertent duplication of the Notice of Submission for OMB Review; Comment Request; Registration of Mortgage Loan Originators (3064-0171) published in the Federal Register on September 26, 2012 (77 FR 59192).

Dated: September 27, 2012.
Federal Deposit Insurance Corporation.
Pamela Johnson,
Regulatory Editing Specialist.

[FR Doc. 2012-24502 Filed 10-3-12; 8:45 am]

BILLING CODE 6714-01-P